DEPARTMENT OF AGRICULTURE

Forest Service

Uinta-Wasatch-Cache National Forest; Evanston-Mountain View Ranger District; Utah; Smiths Fork Vegetation Restoration Project

AGENCY: Forest Service, USDA.

ACTION: Notice of intent to prepare an environmental impact statement.

SUMMARY: The Evanston-Mountain View Ranger District of the Uinta-Wasatch-Cache National Forest proposes to treat approximately 4,300 acres of a variety of vegetation types within the 58,000-acre Smiths Fork project analysis area, located in Uinta County, Wyoming, and Summit County, Utah, approximately 25 miles southwest of Mountain View, Wyoming. Proposed treatment acivities include salvage clearcuts; sanitation salvage; and thin, pile, and burn. This proposal is being developed in direct response to the continuing mountain pine beetle epidemic in the area and its potential long-term impacts on the Smiths Fork area. The project is being undertaken under the auspices of the Healthy Forests Restoration Act (“HFRA”).

DATES: Comments concerning the scope of the analysis must be received by May 31, 2012. The draft environmental impact statement is expected in August 2012 and the final environmental impact statement is expected November 2012.

ADDRESSES: Send written comments to: Smiths Fork Vegetation Restoration Project, Attn: Rick Schuler, P.O. Box 1880, Evanston, WY 82931. Comments can also be hand delivered Monday through Friday 8 a.m. to 4:30 p.m. at the following physical address: 1565 Highway 150, Suite A, Evanston, Wyoming. In addition, comments can be submitted electronically to: comments-intermtn-wasatch-cache-evanston-mtnview@fs.fed.us or submitted via facsimile to 307-783-8639.

Reviewers should provide comments at such times and in such a way that they are useful to the agency's preparation of the EIS. Comments should be provided prior to the close of the comment period and should clearly articulate the reviewer's concerns and contentions. Submission of timely and specific comments can affect a reviewer's ability to participate in the objection process or judicial review.

Comments received in response to this solicitation, including names and addresses of those who comment, will become part of the public record for this proposed action. Comments submitted anonymously will be accepted and considered; however, anonymous comments will not provide the respondent with standing to participate in the objection process associated with this project under the HFRA or judicial review.

FOR FURTHER INFORMATION CONTACT: Pete Gomben, Environmental Coordinator, at 801-236-3407.

Individuals who use telecommunication devices for the deaf (TDD) may call the Federal Information Relay Service (FIRS) at 1-800-877-8339 between 8 a.m. and 8 p.m., Eastern Time, Monday through Friday.

SUPPLEMENTARY INFORMATION:

Purpose and Need for Action

The HFRA recognizes healthy forests or forest health as an integral part of forest management. The proposed action responds directly to forest health objectives as described in the HFRA. The purpose of this project is to reduce the effects from current mountain pine beetle infestation in forested stands dominated by lodgepole pine trees and to reduce the susceptibility of vegetation to high-intensity wildfire and further mountain pine beetle attacks. The project is needed to: (1) Salvage forest products from, and manage stand densities on, forested lands classified as suitable for timber production to keep them positively contributing to the national forest's allowable sale quantity; (2) Reduce the effects of tree mortality associated with the mountain pine beetle epidemic to restore healthy ecological conditions and scenic quality; (3) Accelerate regeneration of forested stands killed by the mountain pine beetle; and (4) Manage hazardous fuel loading associated with the mountain pine beetle epidemic and salvage operations to minimize the potential for large, high intensity/high severity wildfires.

This action responds to the goals and objectives outlined in the Wasatch-Cache National Forest Land and Resource Management Plan (“Forest Plan”), and helps move the project area towards desired conditions described in that plan.

Proposed Action

The proposed project includes treatment of approximately 4,300 acres of aspen and lodgepole communities using timber harvest, prescribed fire, and mechanical fuels treatments. Sanitation salvage would be used on approximately 1,730 acres, clearcuts would be used on approximately 1,241 acres, sanitation salvage with pile and burn would be used on approximately 76 acres, clearcut with pile and burn would be used on approximately 40 acres, roadside salvage would occur on approximately 695 acres, and approximately 514 acres would be undergo a thin, pile, and burn prescription.

Proposed treatments are intended to reduce both the amount and continuity of woody fuels, to remove hazard trees, to harvest beetle-killed or infested trees, and to create a mix of tree ages and species.

The proposed action would retain habitat for sensitive and other species, such as northern goshawks, where needed. The proposed action is also expected to make improvements to visual quality. Treatments in the vicinity of private land would be intended to reduce the threat of wildfire to human life and property.

Access to treatment units, as currently mapped, is anticipated to involve approximately 3.1 miles of new specified road construction, approximately 10.7 miles of temporary road construction, approximately 6.7 miles of additional temporary road use on the existing road prism, and approximately 2.6 miles of road reconstruction. Approximately 3.8 miles of easements through private land would be needed for access to units 4, 20, and 79.

Possible Alternatives

In addition to the proposed action, a no action alternative will be considered. This alternative would continue current management without the actions of this proposal. Because this project is being analyzed via the HFRA, one additional alternative that addresses the purpose and need for the project may be developed in response to issues generated during the scoping process.

Responsible Official

Uinta-Wasatch-Cache National Forest forest supervisor.

Nature of Decision To Be Made

The decision to be made is whether or not to implement vegetation restoration treatments in the Smiths Fork project area, and if so, to what degree and where.

Preliminary Issues

Preliminary issues are the effects of treatments on wildlife habitat, and the effects of insect and disease outbreaks on current forest health.

Scoping Process

This notice of intent initiates the scoping process, which guides the development of the environmental impact statement. This project is not subject to the notice, comment, and appeal process found at 36 CFR part 215. Rather, it is subject to the predecisional administrative review process found at 36 CFR part 218. This process provides the opportunity to resolve issues raised in an objection and identify potential solutions. Only persons who submit specific written comments on the proposed action during the 30-day comment period will be eligible to file an objection. This comment period represents the only opportunity for the public to comment on this proposal prior to the objection process. The opportunity to comment will end 30 days after a legal notice announcing the request for scoping comments is published in the Salt Lake Tribune, which is the newspaper of record.

Dated: April 26, 2012.
Cheryl Probert,
Acting Forest Supervisor.

[FR Doc. 2012-10728 Filed 5-4-12; 8:45 am]

BILLING CODE 3410-11-M